DEPARTMENT OF COMMERCE

International Trade Administration

[C-533-884]

Glycine From India: Preliminary Results and Partial Rescission of Countervailing Duty Administrative Review; 2023

AGENCY: Enforcement and Compliance, International Trade Administration, Department of Commerce.

SUMMARY: The U.S. Department of Commerce (Commerce) preliminarily determines that countervailable subsidies were provided to producers and exporters of glycine from India, during the period of review January 1, 2023, through December 31, 2023. In addition, Commerce is rescinding this review, in part. Interested parties are invited to comment on these preliminary results.

DATES: Applicable October 3, 2025.

FOR FURTHER INFORMATION CONTACT: Amber Hodak or Preston Cox, AD/CVD Operations, Office VI, Enforcement and Compliance, International Trade Administration, U.S. Department of Commerce, 1401 Constitution Avenue NW, Washington, DC 20230; telephone: (202) 482-8034 respectively.

Background

On June 21, 2019, Commerce published in the Federal Register the countervailing duty (CVD) order on glycine from India.¹ On June 3, 2024, Commerce published the notice of the opportunity to request a review of the Order.² On July 29, 2024, based on timely requests for review, Commerce published the notice of initiation of this administrative review.³ On December 9, 2024, Commerce tolled certain deadlines in this administrative proceeding by 90 days.⁴ On April 28, 2025, Commerce extended the time period for issuing these preliminary results, in accordance with section 751(a)(3)(A) of the Tariff Act of 1930, as amended (the Act), to September 29, 2025.⁵

¹ See Glycine from India and the People's Republic of China: Countervailing Duty Orders, 84 FR 29173 (June 21, 2019) (Order).

² See Antidumping or Countervailing Duty Order, Finding, or Suspended Investigation; Opportunity to Request Administrative Review and Join Annual Inquiry Service List, 89 FR 47518 (June 3, 2024).

³ See Initiation of Antidumping and Countervailing Duty Administrative Reviews, 89 FR 60871, 60876-60877 (July 29, 2024) (Initiation Notice).

⁴ See Memorandum, “Tolling Deadlines for Antidumping and Countervailing Duty Proceedings,” dated December 9, 2024.

⁵ See Memorandum, “Extension of Deadline for Preliminary Results of Countervailing Duty Administrative Review,” dated April 28, 2025.

For a complete description of the events that followed the initiation of this review, see the Preliminary Decision Memorandum.⁶ A list of topics included in the Preliminary Decision Memorandum is provided as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁶ See Memorandum, “Decision Memorandum for the Preliminary Results of the Administrative Review of the Countervailing Duty Order on Glycine from India; 2023,” dated concurrently with, and hereby adopted by, this notice (Preliminary Decision Memorandum).

Scope of the Order

The merchandise covered by the Order is glycine from India. For a complete description of the scope of the Order, see the Preliminary Decision Memorandum.⁷

⁷ Id.

Rescission of Administrative Review, in Part

In accordance with 19 CFR 351.213(d)(1), Commerce will rescind an administrative review, in whole or in part, if all parties that requested the review withdraw their requests within 90 days of the date of publication of the notice of initiation of the requested review. On October 25, 2024, Deer Park Glycine, LCC (the petitioner) withdrew its request for review of 21 companies within the 90-day deadline, pursuant to 19 CFR 351.213(d)(1).⁸ For each of the 17 companies for which all requests for review were timely withdrawn and which are not cross-owned with a mandatory respondent,⁹ we are rescinding this review, in part, with respect to these companies, pursuant to 19 CFR 351.213(d)(1). For a list of these companies, see Appendix II.

⁸ See Memorandum, “Notice of Intent to Rescind Review, in Part,” dated November 15, 2024.

⁹ Bajaj Healthcare Limited (Bajaj) requested a review of itself that was not withdrawn, and Reliance Corporation, Rexisize Rasayan Industries, and Rudraa International are cross-owned with mandatory respondent Kumar Industries, India (Kumar). Therefore, these companies remain under review.

Methodology

Commerce is conducting this administrative review in accordance with 751(a)(1)(A) of the Act. For each of the subsidy programs found countervailable, Commerce preliminarily determines that there is a subsidy, i.e., a financial contribution by an “authority” that gives rise to a benefit to the recipient, and that the subsidy is specific.¹⁰ For a full description of the methodology underlying our conclusions, including our reliance, in part, on facts otherwise available with adverse inferences pursuant to sections 776(a) and (b) of the Act, see the Preliminary Decision Memorandum.

¹⁰ See sections 771(5)(B) and (D) of the Act regarding financial contribution; section 771(5)(E) of the Act regarding benefit; and section 771(5A) of the Act regarding specificity.

Companies Not Selected for Individual Review

The Act and Commerce's regulations do not address the establishment of a rate to apply companies not selected for individual examination when Commerce limits its examination in an administrative review pursuant to section 777A(e)(2) of the Act. However, Commerce normally determines the rates for non-selected companies in reviews in a manner that is consistent with section 705(c)(5) of the Act, which provides instructions for calculating the all-others rate in an investigation. Section 777A(e)(2) of the Act provides that “the individual countervailable subsidy rates determined under subparagraph (A) shall be used to determine the all-others rate under section 705(c)(5) {of the Act}.” Section 705(c)(5)(A) states that for companies not investigated, in general, we will determine an all-others rate by weight averaging the countervailable subsidy rates established for each of the companies individually investigated, excluding zero and de minimis rates or any rates based solely on facts available.

Accordingly, to determine the rate for companies not selected for individual examination, Commerce's practice is to weight average the net subsidy rates for the selected mandatory respondents, excluding rates that are zero, de minimis, or based entirely on facts available.¹¹ In this administrative review, Commerce calculated a preliminary individual estimated countervailable subsidy rate for Kumar the only individually examined exporter/producer in this review. Because the only individually calculated subsidy rate is not zero, de minimis, or based entirely on facts otherwise available, the subsidy rate calculated for Kumar is the rate assigned to the company under review that was not selected for individual examination (i.e., Bajaj), pursuant to section 705(c)(5)(A)(i) of the Act.¹²

¹¹ See, e.g., Certain Pasta from Italy: Final Results of the 13th (2008) Countervailing Duty Administrative Review, 75 FR 37386, 37387 (June 29, 2010).

¹² Bajaj is the only company that will be assigned the subsidy rate calculated for companies under review that were not selected for individual examination. See Memorandum, “Correction of Notice of Intent to Rescind Review, in Part,” dated August 21, 2025.

Preliminary Results of Review

Commerce preliminarily determines that the following net countervailable subsidy rates exist for the period, January 1, 2023, through December 31, 2023: ¹³

¹³ Commerce continues to determine that Advance Chemical Corporation, Rexisize Rasayan Industries, Reliance Corporation, and Rudraa International are cross-owned with Kumar Industries, India. See Preliminary Decision Memorandum at 16-17; see also Glycine from India: Final Results of the Countervailing Duty Administrative Review; 2022, 89 FR 95180 (December 2, 2024); and Glycine from India: Preliminary Results of Countervailing Duty Administrative Review; 2018-2019, 86 FR 37738 (July 16, 2021).

Company | Subsidy rate (percent ad valorem)
Kumar Industries, India | 9.41
Bajaj Healthcare Limited | 9.41

Disclosure

Commerce intends to disclose its calculations and analysis performed to interested parties for these preliminary results within five days of any public announcement or, if there is no public announcement, within five days of the date of publication of this notice in accordance with 19 CFR 351.224(b).

Verification

Commerce received a timely request from the petitioner to verify the information submitted in this administrative review, pursuant to 19 CFR 307(b)(1)(iv).¹⁴ As provided in section 782(i)(3) of the Act, Commerce intends to verify the information relied upon in making its final results.

¹⁴ See Petitioner's Letter, “Verification Request,” dated October 11, 2024.

Public Comment

Pursuant to 19 CFR 351.309(c), interested parties may submit case briefs to Commerce no later than seven days after the date of the last verification report issued in this administrative review. Rebuttal briefs, limited to issues raised in the case briefs, may be filed not later than five days after the date for filing case briefs.¹⁵ Interested parties who submit case briefs or rebuttal briefs in this proceeding must submit: (1) a table of contents listing each issue; and (2) a table of authorities.¹⁶ All briefs must be filed electronically using ACCESS. An electronically filed document must be received successfully in its entirety in ACCESS by 5:00 p.m. Eastern Time on the established deadline.

¹⁵ See 19 CFR 351.309(d); see also Administrative Protective Order, Service, and Other Procedures in Antidumping and Countervailing Duty Proceedings, 88 FR 67069, 67077 (September 29, 2023) (APO and Service Procedures).

¹⁶ See 19 CFR 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.¹⁷ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁸

¹⁷ We use the term “issue” here to describe an argument that Commerce would normally address in a comment of the Issues and Decision Memorandum.

¹⁸ See APO and Service Procedures.

Pursuant to 19 CFR 351.310(c), interested parties who wish to request a hearing must submit a written request to the Assistant Secretary for Enforcement and Compliance, filed electronically via ACCESS by 5:00 p.m. Eastern Time within 30 days after the date of publication of this notice. Requests should contain: (1) the party's name, address, and telephone number; (2) the number of participants and whether any participants are foreign nationals; and (3) a list of issues to be discussed. Oral presentations at the hearing will be limited to issues raised in the briefs. If a request for a hearing is made, Commerce will inform parties of the scheduled date for the hearing.¹⁹

¹⁹ See 19 CFR 351.310(d).

Assessment Rates

Consistent with section 751(a)(1) of the Act and 19 CFR 351.212(b)(2), upon issuance of the final results, Commerce shall determine, and U.S. Customs and Border Protection (CBP) shall assess, countervailing duties on all appropriate entries covered by this review.

For the companies listed in Appendix II for which the review is being rescinded, Commerce will instruct CBP to assess countervailing duties on all appropriate entries at a rate equal to the cash deposit of estimated countervailing duties required at the time of entry, or withdrawal from warehouse, for consumption, during the period January 1, 2023, through December 31, 2023, in accordance with 19 CFR 351.212(c)(1)(i). Commerce intends to issue rescission instructions to CBP no earlier than 35 days after the date of publication of this notice in the Federal Register. If a timely summons is filed at the U.S. Court of International Trade, the assessment instructions will direct CBP not to liquidate relevant entries until the time for parties to file a request for a statutory injunction has expired (i.e., within 90 days of publication).

Cash Deposit Rates

Pursuant to section 751(a)(2)(C) of the Act, Commerce intends to instruct CBP to collect cash deposits of estimated countervailing duties in the amount indicated above with regard to shipments of subject merchandise entered, or withdrawn from warehouse, for consumption on or after the date of publication of the final results of this review. For all non-reviewed firms, we will instruct CBP to continue to collect cash deposits of estimated countervailing duties at the most recent company-specific or all-others rate applicable to the company, as appropriate. These cash deposit instructions, when imposed, shall remain in effect until further notice.

Final Results

Unless the deadline is extended, we intend to issue the final results of this administrative review, which will include our analysis of the issues raised in the case briefs, within 120 days after the date of publication of these preliminary results in the Federal Register, pursuant to section 751(a)(3)(A) of the Act and 19 CFR 351.213(h).

Notification to Interested Parties

These preliminary results are issued and published pursuant to sections 751(a)(1) and 777(i)(1) of the Act, and 19 CFR 351.221(b)(4).

Dated: September 29, 2025.
Christopher Abbott,
Deputy Assistant Secretary for Policy and Negotiations performing the non-exclusive functions and duties of the Assistant Secretary for Enforcement and Compliance.

Appendix I

List of Topics Discussed in the Preliminary Decision Memorandum

I. Summary

II. Background

III. Scope of the Order

IV. Use of Facts Otherwise Available and Application of Adverse Inferences

V. Subsidies Valuation

VI. Benchmarks and Interest Rates

VII. Analysis of Programs

VIII. Recommendation

Appendix II

Companies for Which Commerce Is Rescinding the Administrative Review

1. Aditya Chemicals

2. Avid Organics Pvt. Ltd.

3. Eagle Chemical Works

4. Euroasias Ingredients Pvt., Ltd.

5. Euroasias Organics Pvt., Ltd.

6. Euroasia Trans Continental

7. Elementis Specialties India Pvt., Ltd.

8. Gulbrandsen Technologies (India) Pvt. Ltd.

9. Global Merchants

10. J.R. Corporation

11. Lucas TVs Ltd.

12. Kronox Lab Sciences Pvt., Ltd.

13. Medilane Healthcare Pvt., Ltd.

14. Natural and Essential Oils Pvt., Ltd.

15. Paras Intermediates Pvt., Ltd.

16. Shari Pharmachem Pvt. Ltd.,

17. Tarkesh Trading Co.

[FR Doc. 2025-19414 Filed 10-2-25; 8:45 am]

BILLING CODE 3510-DS-P